DEPARTMENT OF HEALTH AND HUMAN SERVICES

Administration for Children and Families

Notice of Issuance of Final Policy Directive

AGENCY: Administration for Native Americans (ANA), HHS.

SUMMARY: The Administration for Native Americans (ANA) herein issues final interpretive rules, general statement of policy, and rules of agency procedure or practice in relation to the Social and Economic Development Strategies (SEDS) project SMART NA Communities (Strengthening Marriages and Relationships in Tribal and Native American Communities). For FY 2005, ANA reserved an amount of funding under the SEDS program to fund projects that are beneficial to the development of healthy Native American communities. ANA has decided to participate in ACF's Healthy Marriage Initiative, and intends to use the reserved SEDS funds to support projects that improve child well-being by removing barriers associated with forming and retaining healthy families and marriages in Native American communities. Under the statute, ANA is required to provide members of the public an opportunity to comment on proposed changes in interpretive rules, statements of general policy, and rules of agency procedure or practice, and to give notice of the final adoption of such changes at least 30 days before the changes become effective. The notice also provides additional information about ANA's plan for administering the programs.

DATES: June 28, 2005.

FOR FURTHER INFORMATION CONTACT: Sheila Cooper, Director of Program Operations, at (877) 922-9262.

SUPPLEMENTARY INFORMATION: Pursuant to Section 814 of the Native American Programs Act of 1974 (the Act), as amended, ANA is required to provide notice of its proposed interpretive rules, statements of policy and rules of agency organization, procedure or practice. The Administration for Native Americans published a Notice of Public Comment (NOPC) on May 27, 2005 (70 FR 30755), on proposed ANA policy and program clarifications, modifications and activities for the FY 2005 SEDS-SMART NA program announcement. The NOPC closed June 27, 2005. ANA did not receive any public comments on the NOPC, and this notice shall suffice as ANA's final policy.

Additional Information

Final Policies and Procedures

1. General

This SEDS SMART NA Communities program area incorporates a majority of the requirements as contained in the SEDS program announcement. There are a few instances where ANA has opted to change the request for information for this program area only. The differences are noted below.

2. Evaluation Criteria

The Impact Indicators, as established in the FY 2005 SEDS program announcement under ANA Evaluation Criteria Five, will be used for this program area except for the following: (2) Number of codes or ordinances developed and implemented; (3) number of people to successfully complete a workshop/training; (8) number of community-based small businesses established or expanded; (9) identification of Tribal or Village government business, industry, energy or financial codes or ordinances that were adopted or enacted; and (10) number of micro-businesses started. ANA does not believe that the capture of this data will affect the impact or demonstrate the success of the grants. The number of suggested ANA Impact Indicators has been reduced to five indicators. (Legal authority: Section 803(a) of the Native American Programs Act of 1974, 42 U.S.C. 2991b)

3. ANA Funding Restrictions

ANA will use the Funding Restrictions established under the FY 2005 SEDS program announcement, except for the following: Core Administration has been modified to remove the last sentence, “Under Alaska SEDS projects, ANA will consider funding core administrative capacity building projects at the Village government level if the Village does not have governing systems in place.” and the sentence, “Projects that do not further the three interrelated ANA goals of economic development, social development and governance or meet the purpose of this program announcement.” This program area is not associated with the Alaska SEDS program area nor is it intended to interrelate to the goals of economic development, social development or governance. (Legal authority: Section 803(a) of the Native American Programs Act of 1974, 42 U.S.C. 2991b)

4. Administrative Policies

ANA will be using the administrative policies as included in the FY 2005 SEDS program announcement except: “An applicant can have only one active ANA SEDS grant operating at any given time” and “Applicants proposing an Economic Development project must address the project's viability. A business plan, if applicable, must be included to describe the project's feasibility, cash flow and approach for the implementation and marketing of the business.” Neither of these policies applies to this program. Special initiative awards such as this program will be issued a SEDS grant number and therefore an entity will be able to administer a regular SEDS award in addition to this project. Business development and the promotion of economic development are not components of this demonstration. (Legal authority: Section 803(a) of the Native American Programs Act of 1974, 45 U.S.C. 2991b)

5. Funding Thresholds

The funding threshold for this program area will be $50,000 (floor amount) to $150,000 (ceiling amount) per budget period. Applications exceeding the $150,000 threshold will be considered non-responsive and will not be considered for funding under this announcement. (Legal authority: Section 803(a) of the Native American Programs Act of 1974, 42 U.S.C. 2991b)

Technical Correction

Upon general review of the Notice, the phrase “demonstration project” has been replaced with the text “program area”. The reference to demonstration projects was inadvertently placed in the text. Upon general review, the legal authority was clarified to reflect that specific section of the authority under which this program area will be funded.

Dated: June 28, 2005.
Quanah Crossland Stamps,
Commissioner, Administration for Native Americans.

[FR Doc. 05-14025 Filed 7-15-05; 8:45 am]

BILLING CODE 4184-01-P